OFFICE OF PERSONNEL MANAGEMENT

5 CFR Part 351

RIN 3206-AJ14

Reduction in Force Retreat Rights

AGENCY: Office of Personnel Management.

ACTION: Final rule.

SUMMARY: The Office of Personnel Management (OPM) is issuing a final regulation that clarifies a released employee's potential right to “Retreat” to another position in a reduction in force. This regulation states that an agency determines the potential grade range of a released employee's retreat right solely upon the position held by the employee on the effective date of the reduction in force rather than the grade range of the position to which the employee may have a right to retreat.

DATES: This regulation is effective on February 5, 2002.

FOR FURTHER INFORMATION CONTACT: Thomas A. Glennon, FAX 202-606-2329.

SUPPLEMENTARY INFORMATION:

Background

On October 20, 2000, OPM published an interim regulation at 65 FR 62991 that clarifies OPM's longstanding policy on the procedure that an agency uses to determine a released employee's potential right to “Retreat” to another position in a reduction in force.

The interim regulation stated that an agency determines the grade or grade-interval range of a released employee's retreat rights solely on the basis of the official position of record held by the employee on the effective date of the reduction in force. The regulation also stated that an agency does not consider the grade or grade-interval range of the position to which the employee may have a retreat right.

The interim regulation was effective upon publication in the Federal Register. Interested parties could submit written comments to OPM concerning the regulation in the 60 day period following publication.

Comments

OPM did not receive any comments on the regulation.

Final Regulation

The interim regulation OPM published at 65 FR 62991 is published as a final regulation without further revision.

Regulatory Flexibility Act

I certify that this regulation will not have a significant economic impact on a substantial number of small entities because it affects only certain Federal employees.

Executive Order 12866, Regulatory Review

This regulation has been reviewed by the Office of Management and Budget in accordance with Executive Order 12866.

List of Subjects in 5 CFR Part 351

Administrative practice and procedure, Government employees.

Office of Personnel Management.
Kay Coles James,
Director.

Accordingly, the interim regulation published at 65 FR 62991 on October 20, 2000, is adopted as final without change.

[FR Doc. 02-2673 Filed 2-4-02; 8:45 am]

BILLING CODE 6325-38-P